DEPARTMENT OF AGRICULTURE

Submission for OMB Review; Comment Request

August 16, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by September 20, 2017 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: Importation of Hass Avocado from Michoacán Mexico.

OMB Control Number: 0579-0129.

Summary of Collection: Under the Plant Protection Act (7 U.S.C. 7701—et seq.), the Secretary of Agriculture is authorized to prohibit or restrict the importation, entry, or movement of plants and plant pests, to prevent the introduction of plant pests into the United States or their dissemination within the United States. The Animal and Plant Health Inspection Service (APHIS) regulations allow fresh Hass Avocados grown in approved orchards in Michoacan, Mexico to be imported into the United States under certain conditions.

Need and Use of the Information: APHIS will collect information using form PPQ 587 “Application for Permit to Import Plants or Plant Products,” to ensure that fresh Hass Avocados from Mexico do not harbor insect pests (including Avocado stem weevils, seed weevils, and seed moths). The information collected will ensure that fresh Hass Avocados from Mexico do not harbor exotic insect pests that, if introduced into the United States, could inflict severe damage upon U.S. agriculture.

Description of Respondents: Business or other for profit; Federal Government; and State Officials.

Number of Respondents: 1,786.

Frequency of Responses: Recordkeeping; Reporting: On occasion.

Total Burden Hours: 447,216.

Animal Plant and Health Inspection Service

Title: Export Certification, Accreditation of Non-Government Facilities.

OMB Control Number: 0579-0130.

Summary of Collection: The Department of Agriculture (USDA), Animal and Plant Health Inspection Service (APHIS) is responsible for preventing plant diseases or insect pests from entering the United States, as well as, the spread of pests not widely distributed in the United States, and eradicating those imported when eradication is feasible. The Plant Protection Act (7 U.S.C. 7701 et seq.), authorizes the Department to carry out this mission. In addition to its mission, APHIS provides export certification services to ensure other countries that the plants and plant products they are receiving from the United States are free of plant diseases and insect pests.

Need and Use of the Information: The accreditation process requires the use of several information activities to ensure that nongovernment facilities applying for accreditation processes the necessary qualifications. APHIS will collect information for applications submitted by operator/owner of a non-government facility seeking accreditation to conduct laboratory testing or phytosanitary inspection. The application should contain the legal name and full address of the facility, the name, address, telephone and fax numbers of the facility's operator, a description of the facility, and a description of the specific laboratory testing or phytosanitary inspection services for which the facility is seeking accreditation. If these activities are not conducted properly, APHIS export certification program would be compromised, causing a disruption in plant and plant product exports that could prove financially damaging to U.S. exporters.

Description of Respondents: Business or other for profit; State, Local and Tribal Government.

Number of Respondents: 9.

Frequency of Responses: Reporting: On occasion.

Total Burden Hours: 199.

Animal and Plant Health Inspection Service

Title: South American Cactus Moth; Quarantine and Regulations.

OMB Control Number: 0579-0337.

Summary of Collection: Under the Plant Protection Act (7 U.S.C. 7701—et seq.), the Secretary of Agriculture is authorized to prohibit or restrict the importation, entry, or movement of plants and plant pests to prevent the introduction of plant pests into the United States or their dissemination within the United States. The Animal and Plant Health Inspection Service (APHIS) regulations, “Subpart-South American Cactus Moth” (7 CFR part 301.55 through 301.55-9), restrict the interstate movement of regulated articles from quarantined areas into or through non-quarantined areas within the United States.

Need and Use of the Information: APHIS will collect information using limited permits, Federal certificates, and compliance agreements. The limited permits are used to authorize movement of regulated articles that are not certifiable to specified destination for processing, treatment, or utilization. Federal certificates are used for domestic movement of treated articles relating to quarantines, and are issued for regulated articles when an inspector or other person authorized to issue certificates finds that the articles have met the conditions of the regulations and may be safely moved interstate without further restrictions. Compliance agreements are provided for the convenience of persons who are involved in the growing, handling, or moving of regulated articles from quarantined areas. Without this information, APHIS could not provide an effective domestic quarantine program to prevent the artificial spread of the South American cactus moth within the United States.

Description of Respondents: Business or other for-profit; and Foreign Federal Government.

Number of Respondents: 6.

Frequency of Responses: Reporting: On occasion.

Total Burden Hours: 16.

Animal and Plant Health Inspection Service

Title: Johne's Disease.

OMB Control Number: 0579-0338.

Summary of Collection: The Animal Health Protection Act of 2002 is the primary Federal law governing the protection of animal health. The law gives the Secretary of Agriculture broad authority to detect, control, or eradicate pests or diseases of livestock or poultry. The regulations in Title 9, Chapter 1, Subchapter C of the Code of Federal Regulations, govern the interstate movement of animals to prevent the dissemination of livestock and poultry diseases in the United States.

Need and Use of the Information: Animal and Plant Health Inspection Service (APHIS) will collect information using form VS 1-27, Permit for Movement of Restricted Animals and Official Ear Tags. APHIS will collect the following information from formVS-127: (1) The number of animals to be moved; (2) the species of the animals; (3) the points of origin and destination, and (4) the names and addresses of the consignor and the consignee. Failing to collect this information would greatly hinder the control of Johne's disease and possible lead to increased prevalence.

Description of Respondents: Business or other for-profit; Accredited Veterinarians.

Number of Respondents: 6.

Frequency of Responses: Reporting: On occasion.

Total Burden Hours: 9.

Animal and Plant Health Inspection Service

Title: Importation of French Beans and Runner Beans from the Republic of Kenya into the United States.

OMB Control Number: 0579-0373.

Summary of Collection: The Plant Protection Act (7 U.S.C. 7701 et seq.), authorizes the Secretary of Agriculture to restrict the importation, entry, or interstate movement of plants, plant products and other articles to prevent the introduction of plant pests into the United States or their dissemination within the United States. The regulations in “Subpart—Fruits and Vegetables” (7 CFR 319.56-1 through 319.56-76), prohibit or restrict the importation of fruits and vegetables into the United States from certain parts of the world to prevent the introduction and dissemination of plant pests that are new to or not widely distributed within the United States. The regulations allow the importation of French beans and runner beans from the Republic of Kenya into the United States. As a condition of entry, both commodities would have to be produced in accordance with a systems approach that would include requirements for packing, washing, and processing.

Need and Use of the Information: The Animal and Plant Health Inspection Service will use the following activities to collect information: Inspections, packinghouse registration, box labeling, and phytosanitary certificates. Use of these information collection activities would allow for the importation of French beans and runner beans from the Republic of Kenya into the United States while continuing the protection against the introduction of quarantine pests.

Description of Respondents: Business or other for-profit; and Foreign Federal Government.

Number of Respondents: 3.

Frequency of Responses: Reporting: On occasion.

Total Burden Hours: 55.

Animal Plant and Health Inspection Service

Title: Importation of Female Squash Flowers from Israel into the Continental United States.

OMB Control Number: 0579-0406.

Summary of Collection: The Plant Protection Act (PPA, 7 U.S.C. 7701 et seq.) authorizes the Secretary of Agriculture to restrict the importation, entry, or interstate movement of plants, plant products, and other articles to prevent the introduction of plant pests into the United States or their dissemination within the United States. As authorized by the PPA, the Animal and Plant Health Inspection Service (APHIS) regulates the importation of certain fruits and vegetables in accordance with the regulations in “Subpart—Fruits and Vegetables” (7 CFR 319.56-1 through 319.56-76. Section 319.56-68 provides the requirements for the importation of female squash flowers from Israel into the continental United States.

Need and Use of the Information: APHIS will collect information using the following activities: Production site registration, trapping records, box markings, production site inspections, and phytosanitary certificates.

Description of Respondents: Business or other for-profit; and Foreign Federal Government.

Number of Respondents: 6.

Frequency of Responses: Reporting: On occasion.

Total Burden Hours: 556.

Animal Plant and Health Inspection Service

Title: Importation of Cape Gooseberry from Colombia into the United States.

OMB Control Number: 0579-0411.

Summary of Collection: The Plant Protection Act (PPA, 7 U.S.C. 7701 et seq.) authorizes the Secretary of Agriculture to restrict the importation, entry, or interstate movement of plants, plant products, and other articles to prevent the introduction of plant pests into the United States or their dissemination within the United States. As authorized by the PPA, the Animal and Plant Health Inspection Service (APHIS) regulates the importation of certain fruits and vegetables in accordance with the regulations in “Subpart—Fruits and Vegetables” (7 CFR 319.56-1 through 319.56-76). In accordance with Section 319.56-67, cape gooseberry from Colombia may be imported into the United States under certain conditions to prevent the introduction of plant pests into the United States.

Need and Use of the Information: APHIS will collect information using the following activities: Bilateral workplan, production site registration, trapping, recordkeeping, phytosanitary inspection and a phytosanitary certificate.

Description of Respondents: Business or other for-profit; and Foreign Federal Government.

Number of Respondents: 424.

Frequency of Responses: Reporting: On occasion, Recordkeeping.

Total Burden Hours: 2,880.

Ruth Brown,
Departmental Information Collection Clearance Officer.

[FR Doc. 2017-17562 Filed 8-18-17; 8:45 am]

BILLING CODE 3410-34-P